DEPARTMENT OF HEALTH AND HUMAN SERVICES

Centers for Disease Control and Prevention

[Program Announcement 01090]

Building Environmental Health Services Capacity in State and Local Departments of Public Health; Notice of Availability of Funds

A. Purpose

The Centers for Disease Control and Prevention (CDC) announces the availability of fiscal year (FY) 2001 funds for a cooperative agreement program for “Building Environmental Health Services Capacity in State and Local Departments of Public Health.” This program addresses the “Healthy People 2010” priority areas of environmental health, public health infrastructure, and education and community-based programs. The purpose of the program is for state and local public health departments to plan, implement, expand, and evaluate their environmental public health activities built on a framework that is based on the ten Essential Public Health Services (see: www.health.gov/phfunctions/public.htm), ten Essential Environmental Health Services, and Core Competencies for Effective Practice of Environmental Health (see Addendum).

B. Eligible Applicants

Applications may be submitted by state and local health departments or their bona fide agents, including the District of Columbia, the Commonwealth of Puerto Rico, the Virgin Islands, the Commonwealth of the Northern Mariana Islands, American Samoa, Guam, federally recognized Indian tribal governments, the Federated States of Micronesia, the Republic of the Marshall Islands, and the Republic of Palau.

Note: Title 2 of the United States Code, Chapter 26, Section 1611 states that an organization described in section 501(c)(4) of the Internal Revenue Code of 1986 that engages in lobbying activities is not eligible to receive Federal funds constituting an award, grant, cooperative agreement, contract, loan or any other form.

C. Availability of Funds

Approximately $1,000,000 is available in FY 2001 to fund approximately five awards. It is expected that the average award will be $200,000, ranging from $150,000 to $250,000. It is expected that the awards will begin on or about September 30, 2001, and will be made for a 12-month budget period within a project period of up to three years. Funding estimates may change.

Continuation awards within an approved project period will be made on the basis of satisfactory progress towards the development of the model demonstration program and the availability of funds.

D. Program Requirements

In conducting activities to achieve the purpose of this program, the recipient will be responsible for the activities listed under 1. (Recipient Activities), and CDC will be responsible for the activities listed under 2. (CDC Activities).

1. Recipient Activities

a. Create a comprehensive, state-of-the-art environmental health services program built on the framework of the ten Essential Public Health Services, ten Essential Environmental Health Services, and the Core Competencies for Effective Practice of Environmental Health.

b. Train, where necessary, health department staff and others who are responsible for implementing and carrying out the activities associated with building and expanding capacity to deliver comprehensive, state-of-the-art environmental public health services, based on the ten Essential Public Health Services, ten Essential Environmental Health Services, and the Core Competencies for Effective Practice of Environmental Health.

c. Plan, conduct, and coordinate the environmental health services with other health department units (e.g., epidemiology, chronic disease, etc.), governmental agencies (i.e., Environmental Protection Agency) and community-based organizations (CBOs) (e.g., environmental health advocacy groups, environmental justice organizations) that will result in the development, reorganization, or expansion of the health department's environmental health services program based on the ten Essential Public Health Services, ten Essential Environmental Health Services, and the Core Competencies for Effective Practice of Environmental.

d. Carry out process and outcome evaluations for the program undertaken.

e. Disseminate findings.

2. CDC Activities

a. Provide technical assistance and consultation, if necessary, to the award recipient to refine the project plan, data and information collection and analysis instruments.

b. Provide technical consultation, as requested, on systems planning and program development.

E. Application Content

Use the information in the Program Requirements, Other Requirements, and Evaluation Criteria sections to develop the application content. The application will be evaluated on the Evaluation Criteria listed, so it is important to follow them in developing the program plan. The narrative should be no more than 30 double-spaced pages, printed on one side, with one-inch margins, and no more than a 12-point Courier font. Number each page consecutively and provide a complete table of contents. The total number of pages should not exceed 60, including the appendix. The application must be submitted unstapled and unbound. In developing the application, the applicant must also include a one-page, double-spaced abstract that describes the project. It should be placed before the budget and narrative sections.

The application should:

1. Describe the applicant's agency and its position within the governmental structure;

2. Describe how the project will be administered, including job descriptions for all project positions and the curriculum vitae of all key administrative and technical staff;

3. Describe its operational plan, with long- and short-range objectives and provide a realistic timetable to build or expand capacity to deliver comprehensive, state-of-the-art environmental health services. The plan should be based on the ten Essential Public Health Services, ten Essential Environmental Health Services, and Core Competencies for Effective Practice of Environmental Health.

4. Contain a comprehensive evaluation scheme to measure process and outcome. The outcome evaluation should focus on the: (1) Reduction of environmentally related risk factors known to contribute to disease, and/or (2) the impact on incidence and prevalence of environmentally induced illness and disease.

F. Submission and Deadline

Letter of Intent (LOI)

A one-page letter of intent (LOI) is requested to enable CDC to determine the level of interest in the announcement. Include name, address, and telephone number for key contact, and provide a brief description of the proposed project.

The LOI is requested on or before June 16, 2001. Submit the LOI to the Grants Management Specialist identified in the “Where to Obtain Additional Information” section of this announcement.

Application

Submit the original and two copies of PHS 5161-1 (OMB Number 0937-0189). Forms are available at the following Internet address: www.cdc.gov or in the application kit. On or before July 16, 2001, submit the application to the Grants Management Specialist identified in the “Where to Obtain Additional Information” section of the application.

Deadline

Applications shall be considered as meeting the deadline if they are either:

(1) Received on or before the deadline date; or

(2) Sent on or before the deadline date and received in time for submission to the independent review group. (Applicants must request a legibly dated U.S. Postal Service postmark or obtain a legibly dated receipt from a commercial carrier or U.S. Postal Service. Private metered postmarks shall not be acceptable as proof of timely mailing.)

Late Applications

Applications which do not meet the criteria in (a) or (b) above are considered late applications, will not be considered, and will be returned to the applicant.

G. Evaluation Criteria

Each application will be evaluated individually against the following criteria by an independent review group appointed by CDC.

1. Understanding the Problem (15 Points)

The extent to which the applicant understands the public health, social, and economic consequences of inadequate environmental health services in their community based upon health and demographic indicators.

2. Objectives and Methods (15 Points)

a. The extent to which the applicant has developed sound, feasible objectives that are consistent with the activities described in this announcement and are specific, measurable, and time-framed.

b. The extent to which the applicant describes the specific activities and methods to achieve each objective.

c. The extent to which the proposed time-table for developing the demonstration model is clearly defined. It should include a tentative work plan and time table for the remaining years of the proposed project.

3. Program Development Plan (30 Points)

a. The extent to which the applicant's program development plan is clear, feasible, scientifically sound, and describes the approach and activities necessary to carry out the health department's role in providing essential environmental health services under the three core functions of assessment, policy development, and assurance.

b. The extent to which the applicant has demonstrated its ability to develop a comprehensive, state-of-the art environmental health program based on the ten Essential Public Health Services, ten Essential Environmental Health Services, and the Core Competencies for Effective Practice of Environmental Health. Each element will be specifically evaluated in terms of how it applies directly to the provision or delivery and improvement of environmental health services.

4. Coordination and Collaboration (10 Points)

The extent to which the applicant involves collaborators in the development of the demonstration model. This includes describing its relationship with other health department components and government agencies, academia, and CBOs as evidenced by letters of support, memoranda of agreement, and other documented evidence.

5. Project Management and Staffing (15 Points)

The extent to which the applicant documents skills, ability, and experience of key health department staff who will be responsible for developing, implementing, and carrying out the requirements of the demonstration model. Specifically, the applicant should: (a) Describe health department staff roles in the development and implementation of the model, their specific responsibilities and their level of effort and time commitment. It should provide assurances that positions to be filled by the applicant's personnel system will be done within reasonable time after receiving funding.

6. Program Evaluation (15 Points)

a. The evaluation plan should describe useful and appropriate strategies and approaches to monitor and improve the quality, effectiveness, and efficiency of the demonstration model.

b. The extent to which the applicant proposes to measure the overall impact of the demonstration model in terms of its contribution to improving the delivery of environmental health services, as may be evidenced by the reduction of environmentally related risk factors known to contribute to disease, and/or the impact on incidence and prevalence of environmentally induced illness and disease.

7. Budget Justification (Not Scored)

The extent to which the budget is clearly explained, adequately justified, and is reasonable and consistent with the stated objectives and planned activities.

H. Other Requirements

Technical Reporting Requirements

Provide CDC with the original plus two copies of:

1. Semi-annual progress reports which are due within 30 days of the end of each six-month reporting period;

2. The financial status report which is due no more than 90 days after the end of the budget period; and

3. The final financial and performance reports which are due no more than 90 days after the end of the project period.

Send all reports to the Grants Management Specialist identified in the “Where to Obtain Additional Information” section of this announcement.

The following additional requirements are applicable to this program. For a complete description of each, see Attachment I of the announcement.

AR-7—Executive Order 12372 Review

AR-9—Paperwork Reduction Act Requirements

AR-10—Smoke-Free Workplace Requirements

AR-11—Healthy People 2010

AR-12—Lobbying Restrictions

I. Authority and Catalog of Federal Domestic Assistance Number

This program is authorized under Sections 301 and 317 of the Public Health Service Act [42 U.S.C. Sections 241 and 247], as amended. The Catalog of Federal Domestic Assistance number is 93.283.

J. Where To Obtain Additional Information

This and other CDC announcements can be found on the CDC home page Internet address: www.cdc.gov by clicking on “Funding” then “Grants and Cooperative Agreements.”

To obtain additional information, contact: Virginia Hall-Broadnax, Grants Management Specialist, Grants Management Branch, Procurement and Grants Office, Centers for Disease Control and Prevention, Mailstop E-13, 2920 Brandywine Road, Suite 3000, Atlanta, GA 30341-4146, Telephone number: (770) 488-2761, Email address: vdh2@cdc.gov.

For scientific technical assistance, contact: Patrick O. Bohan, Acting Chief, Environmental Health Services, Division of Emergency and Environmental Health Services, National Center for Environmental Health, Centers for Disease Control and Prevention, Mail Stop: F-30, 4770 Buford Highway, N.E., Atlanta, Georgia 30341-2724, Telephone: (770) 488-7303, Email: pbohan@cdc.gov.

For programmatic assistance, contact: Jerry M. Hershovitz, Special Assistant to the Director for Program Development, Division of Emergency and Environmental Health Services, National Center for Environmental Health, Centers for Disease Control and Prevention, Mail Stop: F-30, 4770 Buford Highway, N.E., Atlanta, Georgia 30341-2724, Telephone: (770) 488-4542, Email: jhershovitz@cdc.gov.

Dated: May 11, 2001.
John L. Williams
Director, Procurement and Grants Office, Centers for Disease Control and Prevention (CDC).

[FR Doc. 01-12416 Filed 5-16-01; 8:45am]

BILLING CODE 4163-18-P